DEPARTMENT OF ENERGY

Federal Energy Regulatory Commission

Sunshine Act Meeting

February 6, 2002.

The following notice of meeting is published pursuant to Section 3(a) of the Government in the Sunshine Act (Pub. L. No. 94-409), 5 U.S.C 552B:

AGENCY HOLDING MEETING: Federal Energy Regulatory Commission.

DATE AND TIME: February 13, 2002, 10:00 A.M.

PLACE: Room 2C, 888 First Street, NE., Washington, DC 20426.

STATUS: Open.

MATTERS TO BE CONSIDERED: Agenda.

* Note—Items listed on the Agenda may be deleted without further notice.

CONTACT PERSON FOR MORE INFORMATION: Magalie R. Salas, Secretary, Telephone (202) 208-0400. For a recording listing items stricken from or added to the meeting, call (202) 208-1627.

This is a list of matters to be considered by the commission. It does not include a listing of all papers relevant to the items on the agenda; however, all public documents may be examined in the reference and information center.

785th—Meeting February 13, 2002, Regular Meeting 10 A.M.

Administrative Agenda

A-1.

Docket# AD02-1, 000, Agency Administrative Matters

A-2.

Docket# AD02-7, 000, Customer Matters, Reliability, Security and Market Operations

A-3.

Docket# AD02-10, 000, RTO Update

Other#s RT01-75, 000, Entergy Services, Inc.,

RT01-77, 000, Southern Company Services, Inc.,

RT01-100, 000, Regional Transmission Organizations

Markets, Tariffs and Rates—Electric

E-1.

Docket# AD01-3, 000, California Infrastructure Update

Docket# ER02-545, 000, Pacific Gas and Electric Company

E-3.

Docket# ER02-602, 000, American Electric Power Service Corporation

Other#, ER01-2658, 000, American Electric Power Service Corporation;

ER01-2977, 000, American Electric Power Service Corporation;

ER01-2980, 000, American Electric Power Service Corporation;

ER02-371, 001, American Electric Power Service Corporation

E-4.

Docket# ER02-600, 000, Delta Energy Center, LLC

E-5.

Docket# ER02-605, 000, Puget Sound Energy, Inc.

E-6.

Docket# ER02-608, 000, Southern California Edison Company

E-7.

Docket# ER02-648, 000, Sithe New Boston, LLC

E-8.

Omitted

E-9.

Omitted

E-10.

Docket# ER01-1593, 000, Entergy Services, Inc.

Other#s ER01-1593, 001, Entergy Services, Inc.; ER01-1866, 000, Entergy Services, Inc.

E-11.

Docket# ER01-2032, 000, Central Maine Power Company

E-12.

Docket# ER01-2099, 000, Neptune Regional Transmission System, LLC

E-13.

Docket# ER01-2985, 000, Commonwealth Edison Company

Other#s ER01-2985, 001, Commonwealth Edison Company

E-14.

Docket# ER02-488, 000, Midwest Independent Transmission System Operator, Inc.

E-15.

Docket# ER01-2992, 000, Commonwealth Edison Company

Other#s ER01-2993, 000, Virginia Electric and Power Company; ER01-2995, 000, American Electric Power Service Corporation; ER01-2997, 000, Dayton Power and Light Company; ER01-2999, 000, Illinois Power Company

E-16.

Docket# ER02-597, 000, PJM Interconnection, L.L.C.

E-17.

Docket# ER02-613, 000, San Diego Gas & Electric Company

E-18.

Docket# ER02-406, 000, TransEnergie U.S. Ltd. and Hydro One Delivery Services Inc.

E-19.

Docket# ER02-552, 000, TransEnergie U.S. Ltd.

Other#s ER00-1, 000, TransEnergie U.S. Ltd.

E-20.

Docket#, EL00-62, 032, ISO New England Inc.

Other#s ER98-3853, 010, New England Power Pool; ER98-3853, 011, New England Power Pool; EL00-62, 033, ISO New England Inc.; EL00-62, 034, ISO New England Inc.

E-21.

Docket# EC02-11, 000, Orion Power Holdings, Inc., Astoria Generating Company, L.P., Carr Street Generating Station, L.P., Erie Boulevard Hydropower, L.P., Orion Power MidWest, L.P., Twelvepole Creek, L.L.C., Liberty Electric Power, L.L.C. and Reliant Resources, Inc. and Reliant Energy Power Generation Merger Sub, Inc.

E-22.

Docket# EC02-30, 000, Northwest Natural Gas Company and Portland General Electric Company

E-23.

Docket# TX97-8, 000, PECO Energy Company

E-24.

Omitted

E-25.

Docket# ER98-1438, 009, Midwest Independent Transmission System Operator, Inc.

Other#s EC98-24, 006, Cincinnati Gas & Electric Company, Commonwealth Edison Company, Commonwealth Edison Company of Indiana, Illinois Power Company, PSI Energy, Inc., Wisconsin Electric Power Company, Union Electric Company, Central Illinois Public Service Company, Louisville Gas & Electric Company and Kentucky Utilities Company

E-26.

Docket# ER01-2462, 003, PSEG Fossil LLC, PSEG Nuclear LLC and PSEG Energy Resources & Trade LLC

E-27.

Omitted

E-28.

Docket# ER01-2536, 002, New York Independent System Operator, Inc.

E-29.

Docket# ER98-1438, 008, Midwest Independent Transmission System Operator, Inc.

Other#s EC98-24, 005, Cincinnati Gas & Electric Company, Commonwealth Edison Company, Commonwealth Edison Company of Indiana, Illinois Power Company, PSI Energy, Inc., Wisconsin Electric Power Company, Union Electric Company, Central Illinois Public Service Company, Louisville Gas & Electric Company and Kentucky Utilities Company

ER01-479, 002, Midwest Independent Transmission System Operator, Inc.

E-30.

Docket# ER01-2020, 003, Carolina Power & Light Company and Florida Power Corporation

Other#s ER01-1807, 005, Carolina Power & Light Company and Florida Power Corporation; ER01-1807, 006, Carolina Power & Light Company and Florida Power Corporation; ER01-2020, 002, Carolina Power & Light Company and Florida Power Corporation

E-31.

Docket# AC01-47, 001, El Paso Electric Company

E-32.

Docket# EL00-95, 052, San Diego Gas & Electric Company v. Sellers of Energy and Ancillary Services into Markets Operated by the California Independent System Operator Corporation and the California Power Exchange

Other#s EL00-98, 046, Investigation of Practices of the California Independent System Operator Corporation and the California Power Exchange

E-33.

Omitted

E-34.

Docket# EL02-8, 000, Mirant Americas Energy Marketing, L.P., Mirant Bowline, LLC, Mirant Lovett, LLC and Mirant NY Gen, LLC v. New York Independent System Operator, Inc.

Other#s ER02-638, 000, New York Independent System Operator, Inc.

E-35.

Docket# EL02-5, 000, Arizona Public Service Company

E-36.

Omitted

E-37.

Docket# EL02-40, 000, Cargill-Alliant, LLC v. Midwest Independent Transmission System Operator, Inc.

E-38.

Docket# EL02-4, 000, American National Power, Inc.

E-39.

Docket# EL01-88, 000, Louisiana Public Service Commission and the Council of the City of New Orleans v. Entergy Corporation, Entergy Services, Inc., Entergy Arkansas, Inc., Entergy Louisiana, Inc., Entergy Mississippi, Inc., Entergy New Orleans, Inc., Entergy Gulf States, Inc. and System Energy Resources, Inc.

E-40.

Docket# EL02-2, 000, PPL EnergyPlus, LLC

E-41.

Omitted

E-42.

Docket# EC02-23, 000, Trans-Elect, Inc., Michigan Transco Holdings, LP, Consumers Energy Company and Michigan Electric Transmission Company

Other#s ER02-320, 000, Trans-Elect, Inc., Michigan Transco Holdings, LP, Consumers Energy Company and Michigan Electric Transmission Company

E-43.

Docket# EL00-95, 051, San Diego Gas & Electric Company v. Sellers of Energy and Ancillary Services into Markets Operated by the California Independent System Operator Corporation and the California Power Exchange

Other#s EL00-98, 045, Investigation of Practices of the California Independent System Operator Corporation and the California Power Exchange

E-44.

Docket# ER02-607, 000, Michigan Electric Transmission Company

Miscellaneous Agenda

M-1.

Reserved

Markets, Tariffs and Rates—Gas

G-1.

Docket# RP97-374, 003, Northwest Pipeline Corporation

G-2.

Omitted

G-3.

Docket# RP00-397, 000, Questar Pipeline Company

Other#s RP01-33, 000, Questar Pipeline Company;

RP01-33, 001, Questar Pipeline Company;

RP01-33, 002, Questar Pipeline Company

G-4.

Docket# RP02-86, 000, Southern Natural Gas Company

G-5.

Docket# RP99-195, 005, Equitrans, L.P.

G-6.

Docket# RP99-301, 039, ANR Pipeline Company

G-7.

Docket# RP99-301, 036, ANR Pipeline Company

G-8.

Docket# RP99-301, 037, ANR Pipeline Company

G-9.

Docket# RP01-350, 006, Colorado Interstate Gas Company

Other#s RP01-200, 004, Colorado Interstate Gas Company;

RP01-350, 007, Colorado Interstate Gas Company

G-10.

Docket# IS02-46, 001 SFPP, L.P.

Other#s IS02-82, 001, SFPP, L.P.

G-11.

Docket# RP00-260, 008, Texas Gas Transmission Corporation

Other#s RP00-260, 000, Texas Gas Transmission Corporation;

RP00-260, 001, Texas Gas Transmission Corporation;

RP00-260, 002, Texas Gas Transmission Corporation

Energy Projects—HYDRO

H-1.

Docket# P-2436, 154, Consumers Energy Company

Other#s, P-2447, 144, Consumers Energy Company;

P-2448, 148, Consumers Energy Company;

P-2449, 127, Consumers Energy Company;

P-2450, 124, Consumers Energy Company;

P-2451, 129, Consumers Energy Company;

P-2452, 134, Consumers Energy Company;

P-2453, 154, Consumers Energy Company;

P-2468, 130, Consumers Energy Company;

P-2580, 172, Consumers Energy Company; P-2599, 141, Consumers Energy Company

H-2.

Docket# P-11944, 001, Symbiotics, LLC

H-3.

Docket# DI99-2, 002, Alaska Power & Telephone Company

H-4.

Docket# P-1984, 076, Wisconsin River Power Company

H-5.

Omitted

H-6.

Omitted

H-7.

Docket# P-2114, 102, Public Utility District No. 2 of Grant County, Washington

H-8.

Docket# P-2060, 005, Eric Boulevard Hydropower, L.P.

Other#s P-2060, 002, Eric Boulevard Hydropower, L.P.

H-9.

Docket# P-2330, 007, Eric Boulevard Hydropower, L.P.

Other#s P-2060, 002, Eric Boulevard Hydropower, L.P.;

P-2084, 006, Eric Boulevard Hydropower, L.P.;

P-2320, 012, Eric Boulevard Hydropower, L.P.;

P-2330, 033, Eric Boulevard Hydropower, L.P.

H-10.

Docket# P-2084, 020, Eric Boulevard Hydropower, L.P.

Other#s P-2084, 006, Eric Boulevard Hydropower, L.P.

H-11.

Docket# P-2320, 005, Eric Boulevard Hydropower, L.P.

Other#s P-2320 012, Eric Boulevard Hydropower, L.P.

Energy Projects—Certificates

C-1.

Docket# CP01-388, 000, Transcontinental Gas Pipe Line Corporation

Other#s CP01-388, 001, Transcontinental Gas Pipe Line Corporation

C-2.

Docket# CP01-440, 000, Dominion Transmission, Inc.

C-3.

Docket# CP01-434, 000, Seneca Lake Storage, Inc.

Other#s CP01-435, 000, Seneca Lake Storage, Inc.;

CP01-436, 000, Seneca Lake Storage, Inc.

C-4.

Omitted

C-5.

Docket# CP01-396, 000, Equitrans, LP and Equitable Field Services, LLC

C-6.

Docket# CP00-40, 003, Florida Gas Transmission Company

Other#s CP00-40, 004, Florida Gas Transmission Company;

CP00-40, 005, Florida Gas Transmission Company

C-7.

Docket# CP01-69, 002, Petal Gas Storage, L.L.C.

C-8.

Docket# CP01-404, 001 Tennessee Gas Pipeline Company

C-9.

Docket# CP01-70, 003, Columbia Gas Transmission Corporation

Magalie R. Salas,
Secretary.

[FR Doc. 02-3293 Filed 2-6-02; 4:19 pm]

BILLING CODE 6717-01-P